DEPARTMENT OF THE TREASURY

Submission for OMB Review; Comment Request

July 14, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 20, 2004, to be assured of consideration.

Internal Revenue Service (IRS)

OMB Number: 1545-1054.

Form Number: IRS Form 8736.

Type of Review: Revision.

Title: Application for Automatic Extension of Time to File U.S. Return for a Partnership, REMIC or Certain Trusts.

Description: Form 8736 is used by partnerships, REMICs, and by certain trusts to request an automatic 3-month extension of time to file Form 1065, Form 1041, or Form 1066. Form 8736 contains data needed by the IRS to determine whether or not a taxpayer qualifies for such an extension.

Respondents: Business or other for-profit, farms.

Estimated Number of Respondents/Recordkeepers: 36,000.

Estimated Burden Hours Respondent/Recordkeeper:

Recordkeeping—2 hr., 37 min.

Learning about the law or the form—30 min.

Preparing, copying, assembling, and sending the form to the IRS—34 min.

Frequency of response: Annually.

Estimated Total Reporting/Recordkeeping Burden: 132,840 hours.

OMB Number: 1545-1601.

Revenue Procedure Number: Revenue Procedure 98-32.

Type of Review: Extension.

Title: EFTPS Programs for Reporting Agents.

Description: The Batch and Bulk Filer programs are used by Filers for electronically submitting enrollments, federal tax deposits, and federal tax payments on behalf of multiple taxpayers. These programs are part of the Electronic Federal Tax Payments System (EFTPS).

Respondents: Business or other for-profit.

Estimated Number of Respondents/Recordkeepers: 3,000.

Estimated Burden Hours Respondent/Recordkeeper: 82 hours, 23 minutes.

Frequency of response: On occasion, Weekly, Monthly, Quarterly, Semi-annually, Annually, Biennially.

Estimated Total Reporting/Recordkeeping Burden: 246,877 hours.

OMB Number: 1545-1620.

Form Number: IRS Form 8812.

Type of Review: Revision.

Title: Additional Child Tax Credit.

Description: Section 24 of the Internal Revenue Code allows taxpayers a credit for each of their dependent children who is under age 17 at the close of the taxpayer's tax year. The credit is advantageous to taxpayers as it directly reduces the tax liability for the year and, if the taxpayer has three or more children, may result in a refundable amount of credit.

Respondents: Individuals or households.

Estimated Number of Respondents/Recordkeepers: 9,000,000.

Estimated Burden Hours Respondent/Recordkeeper:

Recordkeeping—6 min.

Learning about the law or the form—9 min.

Preparing the form—28 min.

Copying, assembling, and sending the form to the IRS—20 min.

Frequency of response: Annually.

Estimated Total Reporting/Recordkeeping Burden: 9,630,000 hours.

OMB Number: 1545-1731.

Revenue Procedure Number: Revenue Procedure 2001-37.

Type of Review: Extension.

Title: Extraterritorial Income Exclusion Elections.

Description: This revenue procedure provides guidance for implementing the elections (and revocation of such elections) established under the “FSC Repeal and Extraterritorial Income Exclusion Act of 2000.”

Respondents: Business or other for-profit.

Estimated Number of Respondents: 56.

Estimated Burden Hours Respondent: 20 minutes.

Frequency of response: Other (once).

Estimated Total Reporting Burden: 19 hours.

OMB Number: 1545-1847.

Revenue Procedure Number: Revenue Procedure 2004-29.

Type of Review: Extension.

Title: Statistical Sampling in § 274 Context.

Description: For taxpayers desiring to establish for purposes of § 274(n)(2)(A), (C), (D), or (E) that a portion of the total amount of substantiated expenses incurred for meals and entertainment is excepted from the 50% limitation of § 274(n), the revenue procedure requires that taxpayers maintain adequate documentation to support the statistical application, sample unit findings, and all aspects of the sample plan.

Respondents: Business or other for-profit.

Estimated Number of Recordkeepers: 400.

Estimated Burden Hours Recordkeeper: 8 hours.

Estimated Total Recordkeeping Burden: 3,200 hours.

OMB Number: 1545-1884.

Announcement Number: Announcement 2004-43.

Type of Review: Extension.

Title: Election of Alternative Deficit Reduction Contribution.

Description: Announcement 2004-43 describes the notice that must be given by an employer to plan participants and beneficiaries and to the Pension Benefit Guaranty Corporation within 30 days of making an election to take advantage of the alternative deficit reduction contribution described in Public Law 108-18, and gives a special transition rule for the 1st quarter.

Respondents: Business or other for-profit, Not-for-profit institutions.

Estimated Number of Respondents/Recordkeepers: 200.

Estimated Burden Hours Respondent/Recordkeeper:

Respondents:—60 hours.

Recordkeepers:—200 hours.

Frequency of response: On occasion.

Estimated Total Reporting/Recordkeeping Burden: 12,000 hours.

Clearance Officer: Glenn P. Kirkland (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-16565 Filed 7-20-04; 8:45 am]

BILLING CODE 4830-01-P